DEPARTMENT OF AGRICULTURE

48 CFR Part 422

RIN 0599-AA19

Office of Procurement and Property Management; Agriculture Acquisition Regulation, Labor Law Violations; Withdrawal

AGENCY: Office of Procurement and Property Management, Departmental Management, Department of Agriculture.

ACTION: Proposed rule; withdrawal.

SUMMARY: The Office of Procurement and Property Management of the Department of Agriculture (USDA) is withdrawing the December 1, 2011 (76 FR 74755) proposed rule adding a new clause to the Agriculture Acquisition Regulation at subpart 422.70 entitled “Labor Law Violations” that would have a contractor certify upon accepting a contract that it is in compliance with all applicable labor laws and that, to the best of its knowledge, its subcontractors of any tier, and suppliers, are also in compliance with all applicable labor laws.

DATES: As of February 6, 2012, the proposed rule published on December 1, 2011, at 76 FR 74755, is withdrawn.

FOR FURTHER INFORMATION CONTACT: Donna Calacone, Office of Procurement and Property Management, at (202) 205-4036 or by mail at OPPM, MAIL STOP 9306, U.S. Department of Agriculture, 300 Seventh St. SW., Washington, DC 20250-9306. Please cite “48 CFR 422 Proposed Rule” in all correspondence.

SUPPLEMENTARY INFORMATION: USDA is withdrawing its proposed rule published on December 1, 2011 (76 FR 74755), entitled “Office of Procurement and Property Management, Agriculture Acquisition Regulation, Labor Law Violations.”

List of Subjects in 48 CFR Part 422

Classified information, Computer technology, Government procurement, Reporting and recordkeeping requirements.

Signed in Washington, DC, on February 1, 2012.
Jodey Barnes-Edwards,
Deputy Director, Office of Procurement and Property Management.

[FR Doc. 2012-2639 Filed 2-1-12; 4:15 pm]

BILLING CODE 3410-98-P